DEPARTMENT OF THE TREASURY

Bureau of Alcohol, Tobacco and Firearm

27 CFR Parts 55, 70, 270 and 275

[T.D. ATF-446]

RIN 1512-AC37

Technical Amendments to Regulations

AGENCY: Bureau of Alcohol, Tobacco and Firearms (ATF), Department of the Treasury.

ACTION: Final rule, Treasury decision.

SUMMARY: This Treasury decision makes technical amendments and corrects typographical errors in parts 55, 70, 270 and 275 of title 27 Code of Federal Regulations (CFR). All changes are to provide clarity and uniformity throughout these regulations.

DATES: Effective March 27, 2001.

FOR FURTHER INFORMATION CONTACT: Marjorie Ruhf, Regulations Division, (202) 927-8210, Bureau of Alcohol, Tobacco and Firearms, 650 Massachusetts Avenue, NW., Washington, DC 20226.

SUPPLEMENTARY INFORMATION:

Background

The Bureau of Alcohol, Tobacco and Firearms (ATF) administers regulations published in title 27, Code of Federal Regulations. These regulations are updated April 1 of each year to incorporate new or revised regulations that were published by ATF in the Federal Register during the preceding year. ATF identified several amendments that are needed to provide clarity and uniformity to the regulations in 27 CFR.

These amendments do not make any substantive changes and are only intended to improve the clarity of title 27.

Paperwork Reduction Act

The provisions of the Paperwork Reduction Act of 1995, Public Law 104-13, 44 U.S.C. Chapter 35, and its implementing regulations, 5 CFR 1320, do not apply to this final rule because there are no recordkeeping or reporting requirements.

Regulatory Flexibility Act

Because no notice of proposed rulemaking is required for this rule, the provisions of the Regulatory Flexibility Act (5 U.S.C. 601 et seq.) do not apply. We sent a copy of this final rule to the Chief Counsel for Advocacy of the Small Business Administration in accordance with 26 U.S.C. 7805(f). No comments were received.

Executive Order 12866

This final rule is not a significant regulatory action as defined in Executive Order 12866. Accordingly, this final rule is not subject to the analysis required by this Executive Order.

Administrative Procedure Act

Because this final rule merely makes technical amendments to improve the clarity of the regulations, it is unnecessary to issue this final rule with notice and public procedure under 5 U.S.C. 553(b). Similarly, because of the nature of this final rule, good cause is found that it is unnecessary to subject this final rule to the effective date limitation of 5 U.S.C. 553(d).

Drafting Information

The author of this document is Nancy Kern, Regulations Division, Bureau of Alcohol, Tobacco and Firearms.

List of Subjects

27 CFR Part 55

Administrative practice and procedure, Authority delegations, Customs duties and inspection, Explosives, Hazardous materials, Imports, Penalties, Reporting and recordkeeping requirements, Safety, Security measures, Seizures and forfeitures, Transportation, and Warehouses.

27 CFR Part 70

Administrative practice and procedure, Alcohol and alcoholic beverages, Authority delegations, Bankruptcy, Claims, Disaster assistance, Excise taxes, Firearms and ammunition, Government employees, Law enforcement, Law enforcement officers, Penalties, Reporting and recordkeeping requirements, Seizures and forfeitures, Surety bonds, and Tobacco.

27 CFR Part 270

Cigars and cigarettes, Claims, Electronic funds transfers, Excise taxes, Imports, Labeling, Packaging and containers, Reporting and recordkeeping requirements, Surety bonds, and Tobacco.

27 CFR Part 275

Administrative practice and procedure, Authority delegations, Cigars and cigarettes, Claims, Customs duties and inspections, Electronic fund transfers, Excise taxes, Imports, Labeling, Packaging and containers, Penalties, Reporting and recordkeeping requirements, Seizures and forfeitures, Surety bonds, and Tobacco.

Authority and Issuance

Title 27, Chapter I, Code of Federal Regulations is amended as follows:

PART 55—COMMERCE IN EXPLOSIVES

Paragraph 1. The authority citation for part 55 continues to read as follows:

Authority: 18 U.S.C. 847.

Par. 2. In § 55.11, revise the definitions of “Chief, Firearms, and Explosives Licensing Center” and “Explosive Materials” to read as follows:

§ 55.11 Meaning of terms.

* * * * *

Chief, Firearms and Explosives Licensing Center. The ATF official responsible for the issuance and renewal of licenses and permits under this part.

* * * * *

Explosive materials. Explosives, blasting agents, water gels and detonators. Explosive materials include, but are not limited to, all items in the “List of Explosive Materials” provided for in § 55.23.

* * * * *

Par. 3. Remove the reference “AFT” each place it appears and add, in its place, the reference “AFT” in the following places:

a. Section 55.23;

b. Section 55.71;

c. Section 55.105(b); and

d. Section 55.126(d).

Par 4. In § 55.128, revise the second sentence to read as follows:

§ 55.128 Discontinue of business.

* * * Where discontinuance of the business or operations is absolute, the records required by this subpart shall be delivered within 30 days following the business or operations discontinuance to any ATF office located in the division in which the business was located, or to the ATF Firearms Out-of-Business Records Center, 2029 Stonewall Jackson Drive, Falling Waters, West Virginia, 25419. * * *

Par. 5. Amend § 55.218 as follows:

a. Revise the table heading “Public highways with traffic volume 3000 or less vehicles/day” to read “Public highways with traffic volume of 3000 or fewer vehicles/day.”

b. Add the reference “(1.5 lbs.)” at the end of the first sentence in paragraph (3) of the Notes to the Table of Distances for Storage of Explosives.

c. Revise the table heading “Passenger railways—public highways with traffic volume of more than 3,000 vehicles/day” to read “Passenger railways—public highways with traffic volume of more than 3,000 vehicles/day.”

PART 70—PROCEDURE AND ADMINISTRATION

Par. 6. The authority citation for part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

Par. 7. In the third sentence of § 70.803(c), remove the words “under § 71.22” and add, in its place, the words “§ 71.701(d).”

PART 270—MANUFACTURE OF TOBACCO PRODUCTS AND CIGARETTE PAPERS AND TUBES

Par. 8. The authority citation for part 270 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7502, 7503, 7606, 7805; 31 U.S.C. 9301, 9303, 9304, 9306.

Par. 9. Amend §§ 270.165 and 270.165a by removing the OMB control number citation at the end of each section.

Par. 10. In the OMB control number citation in § 270.216, remove reference “1512-0488”, and add in its place the reference “1512-0502.”

PART 275—IMPORTATION OF TOBACCO PRODUCTS AND CIGARETTE PAPERS AND TUBES

Par. 11. The authority citation for part 275 continues to read as follows:

Authority: 18 U.S.C 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

Par. 12. In the OMB control number citation in § 275.72, remove the reference “1512-0488”, and add in its place, the reference “1512-0502.”

Bradley A. Buckles,
Director.
Approved: March 8, 2001.
Timothy E. Skud,
Acting Deputy Assistant Secretary, (Regulatory, Tariff and Trade Enforcement).

[FR Doc. 01-7416 Filed 3-26-01; 8:45 am]

BILLING CODE 4810-13-M